ENVIRONMENTAL PROTECTION AGENCY

[FRL-9970-47-OARM]

Good Neighbor Environmental Board

AGENCY: Environmental Protection Agency (EPA).

ACTION: Request for nominations to the Good Neighbor Environmental Board.

SUMMARY: The U.S. Environmental Protection Agency (EPA) invites nominations from a diverse range of qualified candidates to be considered for appointment to its Good Neighbor Environmental Board (GNEB). Vacancies are expected to be filled by April 1, 2018, but nominees are strongly encouraged to submit their nomination information as soon as possible. Sources in addition to this Federal Register Notice may also be utilized in the solicitation of nominees.

SUPPLEMENTARY INFORMATION:

Background: GNEB is a federal advisory committee chartered under the Federal Advisory Committee Act (FACA), Public Law 92-463. GNEB was created in 1992 by the Enterprise for the Americas Initiative Act, Public Law 102-532, 7 U.S.C. Section 5404. Implementing authority was delegated to the Administrator of EPA under Executive Order 12916. The GNEB is charged by statute with submitting an annual report to the President on environmental and infrastructure issues in the U.S.-Mexico border region. The statute creating the GNEB calls for it to include representatives from U.S. Government agencies; the governments of the states of Arizona, California, New Mexico and Texas; and private organizations with experience in environmental and infrastructure issues along the U.S.-Mexico border. Members are appointed by the EPA Administrator for two year terms with the possibility of reappointment. The GNEB meets approximately three times annually either in person or via video/teleconference. The average workload for committee members is approximately 10 to 15 hours per month. Members serve on the committees in a voluntary capacity. Although EPA is unable to offer compensation or an honorarium, members may receive travel and per diem allowances, according to applicable federal travel regulations. The EPA is seeking nominations from a variety of nongovernmental organizations in the U.S.-Mexico border region, including representatives from business and industry, academia, environmental groups, public health organizations, and other sectors. EPA is also seeking representatives from state, local, and tribal governments. EPA values and welcomes diversity. In an effort to obtain nominations of diverse candidates, EPA encourages nominations of women and men of all racial and ethnic groups.

The following criteria will be used to evaluate nominees:

• Background and experience that would help members contribute to the diversity of perspectives on the committee (e.g., geographic, economic, social, cultural, educational, and other considerations).

• Representative of a sector or group that helps to shape border region environmental policy, or representatives of a group that is affected by border region environmental policy.

• Extensive professional knowledge and experience with the particular issues that the GNEB examines (i.e. environmental and infrastructure issues along the U.S.-Mexico border), including the bi-national dimension of these issues.

• Senior level experience dealing with environmental and infrastructure issues in the U.S.-Mexico border region.

• Possesses a demonstrated ability to work in a consensus building process with a wide range of representatives from diverse constituencies.

• Ability to contribute approximately 10 to 15 hours per month to the GNEB's activities, including face-to-face meetings, conference calls and participation in the development of the GNEB's annual report to the President and occasional advice letters.

• Nominees may self-nominate.

If you are interested in serving on the GNEB, please submit the following information:

• Nominations must include a brief statement of interest, a resume or curriculum vitae, and a short biography describing your professional and educational qualifications, including a list of relevant activities and any current or previous service on advisory committees. The statement of interest, resume, curriculum vitae, or short biography should include the candidate's name, name and address of current organization, position title, email address, and daytime telephone number(s). In preparing your statement of interest, please describe how your background, knowledge, and experience will bring value to the work of the Board, and how these qualifications would contribute to the overall diversity of the GNEB. Also, please describe any previous involvement with EPA through employment, grant funding and/or contracting sources.

• Candidates from the academic sector must also provide a letter of recommendation authorizing the nominee to represent their institution.

• Please be advised that federally registered lobbyists are not permitted to serve on federal advisory committees.

ADDRESSES: Submit nominations to Mark Joyce, Acting Designated Federal Officer, (1601M), 1200 Pennsylvania Avenue NW., Washington, DC 20460. You may also email nominations with the subject line GNEB Nomination 2018 to joyce.mark@epa.gov.

FOR FURTHER INFORMATION CONTACT: Mark Joyce, Acting Designated Federal Officer, U.S. EPA, telephone 202-564-2130.

Dated: October 24, 2017.
Mark Joyce,
Acting Designated Federal Officer.

[FR Doc. 2017-25190 Filed 11-20-17; 8:45 am]

BILLING CODE 6560-50-P